DEPARTMENT OF TRANSPORTATION

Federal Aviation Administration

14 CFR Part 71

[Docket No. FAA-2013-0860; Airspace Docket No. 12-ASO-36]

RIN 2120-AA66

Proposed Establishment and Modification of Area Navigation (RNAV) Routes; Atlanta, GA

AGENCY: Federal Aviation Administration (FAA), DOT.

ACTION: Notice of proposed rulemaking (NPRM).

SUMMARY: This action proposes to establish 14 RNAV Q-routes and modify 4 Q-routes in support of the Optimization of Airspace and Procedures in a Metroplex (OAPM) project. This proposed action is intended to enhance air traffic flow in the vicinity of the Atlanta, GA (ATL) and Charlotte, NC (CLT) Metroplex areas.

DATES: Comments must be received on or before January 13, 2014.

ADDRESSES: Send comments on this proposal to the U.S. Department of Transportation, Docket Operations, M-30, 1200 New Jersey Avenue SE., West Building Ground Floor, Room W12-140, Washington, DC 20590-0001; telephone: (202) 366-9826. You must identify FAA Docket No. FAA-2013-0860 and Airspace Docket No. 12-ASO-36 at the beginning of your comments. You may also submit comments through the Internet at http://www.regulations.gov.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2013-0860 and Airspace Docket No. 12-ASO-36) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2013-0860 and Airspace Docket No. 12-ASO-36.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRMs

An electronic copy of this document may be downloaded through the Internet at http://www.regulations.gov.

You may review the public docket containing the proposal, any comments received and any final disposition in person in the Dockets Office (see ADDRESSES section for address and phone number) between 9:00 a.m. and 5:00 p.m., Monday through Friday, except Federal holidays. An informal docket may also be examined during normal business hours at the office of the Eastern Service Center, Federal Aviation Administration, Room 210, 1701 Columbia Ave., College Park, GA 30337.

Persons interested in being placed on a mailing list for future NPRM's should contact the FAA's Office of Rulemaking, (202) 267-9677, for a copy of Advisory Circular No. 11-2A, Notice of Proposed Rulemaking Distribution System, which describes the application procedure.

The Proposal

The FAA is proposing an amendment to Title 14, Code of Federal Regulations (14 CFR) part 71 to establish 14 RNAV Q-routes and modify 4 Q-routes in support of the OAPM project. OAPM is intended to improve air traffic flows within an entire region resulting in increased capacity and fuel efficiency and reduced track distances. The proposed changes are described below.

Q-22: Q-22 now extends between the GUSTI, LA, fix and the CATLN, AL, fix. This action would modify Q-22 by extending the route approximately 582 nautical miles (NM) to the northeast of its current termination point, to the BEARI, VA, waypoint (WP). The modification would be used to segregate aircraft landing at various airports in the northeast U.S.

Q-39: Q-39 is a proposed new route that would extend between the CLAWD, NC, WP and the TARCI, WV, fix. The route would be used by aircraft landing at Port Columbus, OH, Cleveland, OH and Detroit, MI airports.

Q-40: Q-40 now extends between the Alexandria, LA, VORTAC (AEX) and the MISLE, AL, WP. The route would be modified by extending it approximately 548 NM to the northeast terminating at the FANPO, VA, WP. Q-22 would provide an RNAV alternative for southwest-bound traffic that normally files via jet route J-22. The amended Q-40 would be a shorter route and would also reduce conflictions with departures from the Atlanta, GA, area.

Q-50: Q-50 is a proposed new route that would extend between the Louisville, KY, VORTAC (IIU) and the CUBIM, KY, WP. The route is intended to help segregate Charlotte, NC, departures from conflicting high altitude flows headed towards the Louisville, KY area.

Q-52: Q-52 is a proposed new route that would extend between the CHOPZ, GA, WP and the COLZI, NC, fix. This route would provide an RNAV alternative to jet route J-37 for southwest-bound overflights joining traffic departing from the CLT area and overflying ATL. The route would parallel J-37 between COLZI and CHOPZ thereby segregating the southwest-bound flights from ATL departure flows that are in opposite direction proceeding northeast-bound.

Q-54: Q-54 would be a new route extending between the Greenwood, SC, VORTAC (GRD) and the NUTZE, NC, WP. The route would serve ATL departures destined to the Norfolk, VA, area.

Q-56: Q-56 would be a new route that would extend between the CATLN, AL, Fix and the KIWII, VA, WP. The route would diverge northeasterly from the proposed Q-22 (see above) to serve aircraft landing at Ronald Reagan Washington National Airport (DCA) and Joint Base Andrews (ADW).

Q-58: Q-58 would be a new route that would extend between the KELLN, SC, WP and the PEETT, NC, WP. It would be used by ATL departures headed to Baltimore/Washington International Thurgood Marshall Airport (BWI).

Q-60: The proposed Q-60 would extend between the Spartanburg, SC, VORTAC (SPA) and the JAXSN, VA, fix. The route would serve aircraft landing at Washington Dulles International (IAD), Richmond International (RIC) and LaGuardia (LGA) airports.

Q-63: Q-63 is a proposed new route that would extend between the DOOGE, VA, WP and the HEVAN, IN, WP. The route would facilitate CLT departures traveling northwest-bound and overflying the Cincinnati, OH, area.

Q-64: Q-64 is proposed to extend between the CATLN, AL, fix and the Tar River, NC, VORTAC (TYI). Q-64 would provide routing for aircraft destined to airports in the New York City area.

Q-65: Q-65 would be a new route extending between the JEFOI, GA, WP and Rosewood, OH, VORTAC (ROD). The route would serve northbound traffic from Florida and to the east of ATL.

Q-66: Q-66 would extend between the Little Rock, AR, VORTAC (LIT) and the ALEAN, VA, WP. The route would transfer RNAV aircraft off conventional jet routes and away from the Volunteer, TN (VXV) and Pulaski, VA (PSK) VORTACs, which are high traffic volume crossing fixes. Shifting aircraft to Q-66 would facilitate climbs for northbound aircraft departing ATL and provide a more direct route to Little Rock.

Q-67: Q-67 would extend between the SMITH, TN, WP and Henderson, WV, VORTAC (HNN). It would provide RNAV routing for ATL departures. Q-67, along with the proposed Q-71 (see below), would enable two segregated north departure flows from ATL.

Q-69: Q-69 would extend between the BLAAN, SC, WP and Elkins, WV, VORTAC (EKN). The route would provide better opportunity for unrestricted climbs for CLT departures headed toward Pittsburg International (PIT), Buffalo Niagara International (BUF) and Toronto Pearson International (TOR) airports. Additionally, Q-69 could be used as an RNAV alternative to jet route J-53.

Q-71: Q-71 would extend between the BOBBD, TN, WP and the GEFFS, WV, fix. This route, in conjunction with Q-67 (above), would facilitate the segregation of ATL departures prior to the aircraft entering the adjacent Air Route Traffic Control Center's (ARTCC) airspace.

Q-110: Q-110 now extends between the THNDR, FL, fix and the FEONA, GA, WP. This action would modify Q-110 by extending the route an additional 404 NM to the northwest, terminating at the BLANS, IL, WP. The amended route would serve traffic overflying Atlanta ARTCC airspace from Florida airports en route to the Minneapolis-St. Paul International/World-Chamberlain Airport (MSP).

Q-118: Q-118 now extends between the KPASA, FL, WP and the LENIE, GA, WP. This proposed amendment would eliminate the LENIE WP from the Q-118 description and instead, realign Q-118 to the west of LENIE through the JOHNN, GA, Fix. From JOHNN, GA, Fix, Q-118 would be extended approximately 544 NM to the north to terminate at the Marion, IN, VOR/DME (MZZ). This route extension would support a preferred arrival route into Chicago O'Hare International Airport (ORD).

High altitude RNAV routes are published in paragraph 2006 of FAA Order 7400.9X dated August 7, 2013, and effective September 15, 2013, which is incorporated by reference in 14 CFR 71.1. The RNAV routes listed in this document would be subsequently published in the Order.

The FAA has determined that this proposed regulation only involves an established body of technical regulations for which frequent and routine amendments are necessary to keep them operationally current. Therefore, this proposed regulation: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This proposed regulation is within the scope of that authority as it would modify the route structure as required to enhance the safe and efficient flow of air traffic in the eastern United States.

Environmental Review

This proposal will be subject to an environmental analysis in accordance with FAA Order 1050.1E, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9W, Airspace Designations and Reporting Points, Dated August 8, 2012, and effective September 15, 2012, is amended as follows:

Paragraph 2006 United States Area Navigation Routes.

* * * * *

Q-22 GUSTI, LA to BEARI, VA [Amended]
GUSTI, LA | FIX | (Lat. 29°58′15″ N., long. 92°54′35″ W.)
OYSTY, LA | FIX | (Lat. 30°28′15″ N., long. 90°11′49″ W.)
ACMES, AL | WP | (Lat. 30°55′27″ N., long. 88°22′11″ W.)
CATLN, AL | FIX | (Lat. 31°18′26″ N., long. 87°34′48″ W.)
TWOUP, GA | WP | (Lat. 33°53′45″ N., long. 83°49′08″ W.)
Spartanburg (SPA), SC | VORTAC | (Lat. 35°02′01″ N., long. 81°55′37″ W.)
NYBLK, NC | WP | (Lat. 35°34′35″ N., long. 81°02′34″ W.)
MASHI, NC | WP | (Lat. 35°58′18″ N., long. 80°23′05″ W.)
KIDDO, NC | WP | (Lat. 36°10′35″ N., long. 80°02′24″ W.)
OMENS, VA | WP | (Lat. 36°49′29″ N., long. 78°55′30″ W.)
BEARI, VA | WP | (Lat. 37°12′02″ N., long. 78°15′24″ W.)
Q-39 CLAWD, NC to TARCI, WV [New]
CLAWD, NC | WP | (Lat. 36°25′09″ N., long. 81°08′50″ W.)
TARCI, WV | FIX | (Lat. 38°16′36″ N., long. 81°18′34″ W.)
Q-40 Alexandria, LA (AEX) to FANPO, VA [Amended]
Alexandria, LA (AEX) | VORTAC | (Lat. 31°15′24″ N., long. 92°30′04″ W.)
DOOMS, MS | WP | (Lat. 31°53′08″ N., long. 91°09′56″ W.)
WINAP, MS | WP | (Lat. 32°38′00″ N., long. 89°21′56″ W.)
MISLE, AL | WP | (Lat. 33°24′00″ N., long. 87°38′00″ W.)
BFOLO, AL | WP | (Lat. 34°03′34″ N., long. 86°31′30″ W.)
NIOLA, GA | WP | (Lat. 34°47′00″ N., long. 85°16′14″ W.)
JAARE, TN | WP | (Lat. 35°44′20″ N., long. 83°32′30″ W.)
OJESS, TN | WP | (Lat. 35°55′00″ N., long. 83°10′54″ W.)
ALEAN, VA | WP | (Lat. 36°43′55″ N., long. 81°37′26″ W.)
FEEDS, VA | WP | (Lat. 37°16′29″ N., long. 80°30′33″ W.)
MAULS, VA | WP | (Lat. 37°52′49″ N., long. 79°19′49″ W.)
FANPO, VA | WP | (Lat. 38°25′25″ N., long. 78°13′51″ W.)
Q-50 Louisville, KY (IIU) to CUBIM, KY [New]
Louisville, KY (IIU) | VORTAC | (Lat. 38°06′12″ N., long. 85°34′39″ W.)
HELUB, KY | WP | (Lat. 37°42′55″ N., long. 84°44′28″ W.)
ENGRA, KY | WP | (Lat. 37°29′02″ N., long. 84°15′02″ W.)
IBATE, KY | WP | (Lat. 36°59′12″ N., long. 83°13′40″ W.)
CUBIM, KY | WP | (Lat. 36°52′37″ N., long. 83°00′21″ W.)
Q-52 CHOPZ, GA to COLZI, NC [New]
CHOPZ, GA | WP | (Lat. 33°51′24″ N., long. 83°41′18″ W.)
IPTAY, GA | WP | (Lat. 34°20′57″ N., long. 82°50′23″ W.)
AWYAT, SC | WP | (Lat. 35°02′21″ N., long. 81°36′45″ W.)
COLZI, NC | FIX | (Lat. 36°13′39″ N., long. 80°30″32″ W.)
Q-54 Greenwood, SC (GRD) to NUTZE, NC [New]
Greenwood, SC (GRD) | VORTAC | (Lat. 34°15′06″ N., long. 82°09′15″ W.)
NYLLA, SC | WP | (Lat. 34°34′39″ N., long. 81°17′00″ W.)
CHYPS, NC | WP | (Lat. 34°53′18″ N., long. 80°25′57″ W.)
AHOEY, NC | WP | (Lat. 35°00′36″ N., long. 80°05′56″ W.)
RAANE, NC | WP | (Lat. 35°09′22″ N., long. 79°41′34″ W.)
NUTZE, NC | WP | (Lat. 35°50′40″ N., long. 77°40′57″ W.)
Q-56 CATLN, AL to KIWII, VA [New]
CATLN, AL | FIX | (Lat. 31°18′26″ N., long. 87°34′48″ W.)
KBLER, GA | WP | (Lat. 33°43′21″ N., long. 83°43′14″ W.)
KELLN, SC | WP | (Lat. 34°31′33″ N., long. 82°10′17″ W.)
KTOWN, NC | WP | (Lat. 35°11′49″ N., long. 81°03′18″ W.)
BYSCO, NC | WP | (Lat. 35°46′09″ N., long. 80°04′34″ W.)
JOOLI, NC | WP | (Lat. 35°54′55″ N., long. 79°49′16″ W.)
NUUMN, NC | WP | (Lat. 36°09′54″ N., long. 79°23′39″ W.)
ORACL, NC | WP | (Lat. 36°28′02″ N., long. 78°52′15″ W.)
KIWII, VA | WP | (Lat. 36°34′57″ N., long. 78°40′04″ W.)
Q-58 KELLN, SC to PEETT, NC [New]
KELLN, SC | WP | (Lat. 34°31′33″ N., long. 82°10′17″ W.)
GLOVR, NC | FIX | (Lat. 35°30′24″ N., long. 80°14′51″ W.)
LUMAY, NC | WP | (Lat. 35°44′47″ N., long. 79°49′40″ W.)
STUKI, NC | WP | (Lat. 36°09′08″ N., long. 79°06′14″ W.)
PEETT, NC | WP | (Lat. 36°26′45″ N., long. 78°34′16″ W.)
Q-60 Spartanburg, SC (SPA) to JAXSN, VA [New]
Spartanburg, SC (SPA) | VORTAC | (Lat. 35°02′01″ N., long. 81°55′37″ W.)
BYJAC, NC | FIX | (Lat. 35°57′27″ N., long. 80°09′03″ W.)
EVING, NC | WP | (Lat. 36°05′22″ N., long. 79°53′56″ W.)
LOOEY, VA | WP | (Lat. 36°35′05″ N., long. 79°01′09″ W.)
JAXSN, VA | FIX | (Lat. 36°42′38″ N., long. 78°47′23″ W.)
Q-63 DOOGE, VA to HEVAN, IN [New]
DOOGE, VA | WP | (Lat. 36°48′39″ N., long. 82°35′14″ W.)
HAPKI, KY | WP | (Lat. 37°04′56″ N., long. 82°51′03″ W.)
TONIO, KY | FIX | (Lat. 37°15′15″ N., long. 83°01′48″ W.)
OCASE, KY | WP | (Lat. 38°23′59″ N., long. 84°11′05″ W.)
HEVAN, IN | WP | (Lat. 39°21′09″ N., long. 85°07′47″ W.)
Q-64 CATLN, AL to Tar River, NC (TYI) [New]
CATLN, AL | FIX | (Lat. 31°18′26″ N., long. 87°34′48″ W.)
FIGEY, GA | WP | (Lat. 33°52′27″ N., long. 82°52′23″ W.)
Greenwood, SC (GRD) | VORTAC | (Lat. 34°15′06″ N., long. 82°09′15″ W.)
DARRL, SC | FIX | (Lat. 34°47′49″ N., long. 81°03′22″ W.)
IDDAA, NC | WP | (Lat. 35°11′05″ N., long. 79°59′31″ W.)
Tar River, NC (TYI) | VORTAC | (Lat. 35°58′36″ N., long. 77°42′13″ W.)
Q-65 JEFOI, GA to Rosewood, OH (ROD) [New]
JEFOI, GA | WP | (Lat. 31°35′37″ N., long. 82°31′18″ W.)
CESKI, GA | WP | (Lat. 32°16′21″ N., long. 82°40′39″ W.)
DAREE, GA | WP | (Lat. 34°37′36″ N., long. 83°51′35″ W.)
LORNN, TN | WP | (Lat. 35°21′16″ N., long. 84°14′19″ W.)
SOGEE, TN | WP | (Lat. 36°31′51″ N., long. 84°11′35″ W.)
ENGRA, KY | WP | (Lat. 37°29′02″ N., long. 84°15′02″ W.)
OCASE, KY | WP | (Lat. 38°23′59″ N., long. 84°11′05″ W.)
Rosewood, OH (ROD) | VORTAC | (Lat. 40°17′16″ N., long. 84°02′35″ W.)
Q-66 Little Rock, AR (LIT) to ALEAN, VA [New]
Little Rock, AR (LIT) | VORTAC | (Lat. 34°40′40″ N., long. 92°10′50″ W.)
CIVKI, AR | WP | (Lat. 34°48′15″ N., long. 91°36′01″ W.)
RICKX, AR | WP | (Lat. 35°06′30″ N., long. 90°14′16″ W.)
TROVE, TN | WP | (Lat. 35°23′16″ N., long. 88°54′39″ W.)
BAZOO, TN | WP | (Lat. 35°58′32″ N., long. 85°52′12″ W.)
METWO, TN | WP | (Lat. 36°04′22″ N., long. 85°18′38″ W.)
MXEEN, TN | WP | (Lat. 36°28′06″ N., long. 83°11′08″ W.)
ALEAN, VA | WP | (Lat. 36°43′55″ N., long. 81°37′26″ W.)
Q-67 SMTTH, TN to Henderson, WV (HNN) [New]
SMTTH, TN | WP | (Lat. 35°54′42″ N., long. 84°00′20″ W.)
CEMEX, KY | WP | (Lat. 36°45′45″ N., long. 83°23′34″ W.)
IBATE, KY | WP | (Lat. 36°59′12″ N., long. 83°13′40″ W.)
TONIO, KY | FIX | (Lat. 37°15′15″ N., long. 83°01′48″ W.)
Henderson, WV (HNN) | VORTAC | (Lat. 38°45′15″ N., long. 82°01′34″ W.)
Q-69 BLAAN, SC to Elkins, WV (EKN) [New]
BLAAN, SC | WP | (Lat. 33°51′09″ N., long. 80°53′33″ W.)
RYCKI, NC | WP | (Lat. 36°24′43″ N., long. 80°25′08″ W.)
LUNDD, VA | WP | (Lat. 36°44′22″ N., long. 80°21′07″ W.)
ILLSA, VA | WP | (Lat. 37°38′56″ N., long. 80°13′18″ W.)
EWESS, WV | WP | (Lat. 38°21′50″ N., long. 80°06′52″ W.)
Elkins, WV (EKN) | VORTAC | (Lat. 38°54′52″ N., long. 80°05′57″ W.)
Q-71 BOBBD, TN to GEFFS, WV [New]
BOBBD, TN | WP | (Lat. 35°47′58″ N., long. 83°51′34″ W.)
ATUME, KY | WP | (Lat. 36°57′14″ N., long. 83°03′24″ W.)
HAPKI, KY | WP | (Lat. 37°04′56″ N., long. 82°51′03″ W.)
KONGO, KY | FIX. | (Lat. 37°30′19″ N., long. 82°08′13″ W.)
WISTA, WV | WP | (Lat. 38°17′01″ N., long. 81°27′47″ W.)
GEFFS, WV | FIX | (Lat. 39°00′50″ N., long. 80°48′50″ W.)
Q-110 THNDR, FL to BLANS, IL [Amended]
THNDR, FL | FIX | (Lat. 26°37′38″ N., long. 80°52′00″ W.)
JAYMC, FL | WP | (Lat. 26°58′51″ N., long. 81°22′08″ W.)
RVERO, FL | WP | (Lat. 27°24′35″ N., long. 81°35′57″ W.)
KPASA, FL | WP | (Lat. 28°10′34″ N., long. 81°54′27″ W.)
BRUTS, FL | WP | (Lat. 29°30′58″ N., long. 82°58′57″ W.)
GULFR, FL | WP | (Lat. 30°12′23″ N., long. 83°33′08″ W.)
FEONA, GA | WP | (Lat. 31°36′22″ N., long. 84°43′08″ W.)
JYROD, AL | WP | (Lat. 33°10′53″ N., long. 85°51′55″ W.)
BFOLO, AL | WP | (Lat. 34°03′34″ N., long. 86°31′30″ W.)
SKIDO, AL | WP | (Lat. 34°31′49″ N., long. 86°53′11″ W.)
BETIE, TN | WP | (Lat. 36°07′30″ N., long. 87°54′01″ W.)
BLANS, IL | WP | (Lat. 37°28′09″ N., long. 88°44′01″ W.)
Q-118 KPASA, FL to Marion, IN (MZZ) [Amended]
KPASA, FL | WP | (Lat. 28°10′34″ N., long. 81°54′27″ W.)
BRUTS, FL | WP | (Lat. 29°30′58″ N., long. 82°58′57″ W.)
JOHNN, GA | FIX | (Lat. 31°31′23″ N., long. 83°57′27″ W.)
KAILL, GA | WP | (Lat. 34°01′47″ N., long. 84°31′24″ W.)
GLAZR, TN | WP | (Lat. 36°25′21″ N., long. 84°46′49″ W.)
JEDER, KY | WP | (Lat. 37°19′31″ N., long. 84°45′14″ W.)
HELUB, KY | WP | (Lat. 37°42′55″ N., long. 84°44′28″ W.)
VOSTK, KY | WP | (Lat. 38°28′16″ N., long. 84°43′04″ W.)
HEVAN, IN | WP | (Lat. 39°21′09″ N., long. 85°07′47″ W.)
Marion, IN (MZZ) | VOR/DME | (Lat. 40°29′36″ N., long. 85°40′45″ W.)

Issued in Washington, DC, on November 21, 2013.
Gary A. Norek,
Manager, Airspace Policy and ATC Procedures Group.

[FR Doc. 2013-28480 Filed 11-26-13; 8:45 am]

BILLING CODE 4910-13-P